SMALL BUSINESS ADMINISTRATION

[Disaster Declaration #10314 and #10315]

Puerto Rico Disaster #PR-00001

AGENCY: U.S. Small Business Administration.

ACTION: Notice.

SUMMARY: This is a notice of an Administrative declaration of a disaster for the Commonwealth of Puerto Rico dated January 10, 2006.

Incident: Severe Storm, Flooding and Mudslides.

Incident Period: October 9, 2005 through October 15, 2005.

Effective Date: January 10, 2006.

Physical Loan Application Deadline Date: March 13, 2006.

Economic Injury (EIDL) Loan Application Deadline Date: October 10, 2006.

ADDRESSES: Submit completed loan applications to: U.S. Small Business Administration, National Processing and Disbursement Center, 14925 Kingsport Road Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's disaster declaration applications for disaster loans may be filed at the address listed above or other locally announced locations.

The following areas have been determined to be adversely affected by the disaster:

Primary Municipalities:

Lares, Penuelas, Ponce, Toa Baja.

Contiguous Municipalities: Puerto Rico:

Adjuntas, Bayamon, Camuy, Catano, Dorado, Guayanilla, Hatillo, Jayuya, Juana Diaz, Las Marias, Maricao, San Sebastian, Toa Alta, Utuado, Yauco.

The Interest Rates are:

| Percent
Homeowners With Credit Available Elsewhere | 5.375
Homeowners Without Credit Available Elsewhere | 2.687
Businesses With Credit Available Elsewhere | 6.557
Businesses & Small Agricultural Cooperatives Without Credit Available Elsewhere | 4.000
Other (Including Non-Profit Organizations) With Credit Available Elsewhere | 4.750
Businesses And Non-Profit Organizations Without Credit Available Elsewhere | 4.000

The number assigned to this disaster for physical damage is 10314 6 and for economic injury is 10315 0.

The States which received an EIDL Declaration # are Puerto Rico.

(Catalog of Federal Domestic Assistance Numbers 59002 and 59008)

Dated: January 10, 2006.
Hector V. Barreto,
Administrator.

[FR Doc. E6-759 Filed 1-23-06; 8:45 am]

BILLING CODE 8025-01-P